DEPARTMENT OF TRANSPORTATION

Bureau of Transportation Statistics

[Docket No. BTS-2004-17371]

Request for OMB Clearance of an Information Collection; Customer Satisfaction Surveys Program

AGENCY: Bureau of Transportation Statistics (BTS), DOT.

ACTION: Notice.

SUMMARY: In compliance with the Paperwork Reduction Act of 1995, Public Law 104-13, the Bureau of Transportation Statistics invites the general public, industry and other governmental parties to comment on the continuing need for and usefulness of BTS' Customer Satisfaction Surveys.

DATES: Written comments should be submitted by June 1, 2004.

ADDRESSES: You may submit a comment (identified by DMS Docket Number BTS-2004-17371) through one of the following methods:

Web site: http://dms.dot.gov. Follow the instructions for submitting comments on the DOT electronic docket site.

Fax: 1-202-493-2251.

Mail: Docket Management Facility; U.S. Department of Transportation, 400 Seventh Street, SW., Nassif Building, Room PL-401, Washington, DC 20590-0001.

Hand Delivery: Room PL-401 on the plaza level of the Nassif Building, 400 Seventh Street, SW., Washington, DC, between 9 a.m. and 5 p.m., Monday through Friday, except Federal holidays.

Instructions: All comments must include the agency name and docket number. Note that all comments received will be posted without change to http://dms.dot.gov, including any personal information provided. You should know that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov

Docket: For access to the docket to read background documents or comments, go to http://dms.dot.gov at any time or to Room PL-401 on the plaza level of the Nassif Building, 400 Seventh Street, SW., Washington, DC, between 9 a.m. and 5 p.m., Monday through Friday, except Federal holidays.

Please note that due to delays in the delivery of U.S. mail to Federal offices in Washington, DC, we recommend that persons consider an alternative method (the Internet, fax, or professional delivery service) to submit comments to the docket and ensure their timely receipt at U.S. DOT.

Comments: Comments should identify the associated OMB approval #2139-0007. Persons wishing the Department to acknowledge receipt of their comments must submit with those comments a self-addressed stamped postcard on which the following statement is made: Comments on OMB #2139-0007. The postcard will be date/time stamped and returned. We particularly request your comments on the accuracy of the estimated burden; ways to enhance the quality, usefulness, and clarity of the collected information; and ways to minimize the collection burden without reducing the quality of the information collected including additional use of automated collection techniques or other forms of information technology.

FOR FURTHER INFORMATION CONTACT: Ms. Lori Putman, Office of Survey Programs, K-23, Room 4432, Bureau of Transportation Statistics, 400 Seventh Street, SW., Washington, DC 20590-0001, (202) 366-5336.

SUPPLEMENTARY INFORMATION: OMB Approval No. 2139-0007.

Title: Customer Satisfaction Surveys.

Form No.: None.

Type of Review: Renewal of a currently approved collection.

Respondents: U.S. Households.

Number of Respondents: 22,000.

Estimated Time per Response: 5-17 minutes.

Total Annual Burden: 8700 hours (estimate).

Needs and Uses: In 1993, Executive Order #12862 was implemented by the President to insure the highest quality service possible to the American people. Federal agencies are required to establish and implement customer service standards to guide the operations of the agency, to judge the performance of the agency, and to make appropriate resource allocations. To fulfill the requirements of this mandate, the Bureau of Transportation Statistics (BTS) immediately implemented plans and requirements for measuring customer satisfaction with BTS and Department of Transportation programs and services. As the statistical agency of the Department of Transportation, BTS is charged with fulfilling a wide variety of user needs. BTS has implemented a wide range of customer satisfaction surveys. The approaches include the Omnibus Survey Programs and the BTS Customer Satisfaction Survey, all of which are covered by this clearance request. Consistent with the requirements of Executive Order #12862, BTS plans to continue data collections at several levels to better assess and evaluate customer satisfaction within products, services, and overall performance of the agency over the next three years.

Description of Survey Topics: The Omnibus Surveys Program is comprised of several different surveys—A monthly Household Survey and periodic targeted surveys. The primary purpose of the Omnibus Household Survey are: (1) To determine the public's level of satisfaction with the nation's transportation system in light of the Department's strategic objectives, (2) to determine the public's satisfaction with the Department of Transportation products and services; and (3) to be a vehicle for the Operation Administrations within the Department of Transportation to survey the public about Administration-specific topics.

The Omnibus targeted surveys are designed on an “as needed” basis to address specific, emerging transportation issues. Although there is no schedule for such surveys, this submission requests clearance for a maximum of 8 targeted surveys per year. In the past, BTS has conducted such targeted surveys as the Mariner's Survey (which collects data about the Merchant Marines to be used in the event of a national emergency), the Highway User Survey (which collects data on highway usage) and the Bicycle/Pedestrian Survey (which collects data on bicycle usage and on walking as transportation). Data collection for targeted surveys may be one time only or recurring.

The BTS Customer Satisfaction Survey was implemented in 1998. The resulting data identified customers who are served by the Bureau of Transportation Statistics; determined the kind of quality of services they want; and measured their level of satisfaction with existing services. The surveys covered by this request do not duplicate information currently being collected by any other agency or component within the Department of Transportation. The information to be collected by these surveys is not currently available in any other format or from any other source or combination of sources.

Burden Statement: The total annual respondent burden estimate is 8,700 hours. The number of respondents and average burden hour per response will vary with each survey.

Issued in Washington, DC, on March 24, 2004.
Michael Cohen,
Assistant Director, Survey Programs, Bureau of Transportation Statistics.

[FR Doc. 04-7242 Filed 3-30-04; 8:45 am]

BILLING CODE 4910-HY-P